NUCLEAR WASTE TECHNICAL REVIEW BOARD

Panel Meetings

January 20 and 21, 2004—Las Vegas, Nevada: The U.S. Nuclear Waste Technical Review Board's panel on the Engineered Barrier System and Panel on the Waste Management System will meet to discuss issues related to the proposed repository at Yucca Mountain in Nevada, including design of the engineered system and information needed to plan for a system to transport high-level radioactive waste spent nuclear fuel to the proposed repository.

Pursuant to its authority under section 5051 of Public Law 100-203, Nuclear Waste Policy Amendments Act of 1987, members of the U.S. Nuclear Waste Technical Review Board's Panel on the Engineered Barrier system and Panel on the Waste Management System will meet in Las Vegas, Nevada, on Tuesday, January 20, and Wednesday, January 21, 2004, respectively. The panels will discuss issues related to the proposed repository at Yucca Mountain in Nevada, including design of the engineered system and information needed as the Department of Energy (DOE) plans a system for transporting high-level radioactive waste and spend nuclear fuel to the proposed repository. The meetings will be open to the public, and opportunities for public comment will be provided. The Board is charged by Congress with reviewing the technical and scientific validity of activities undertaken by the DOE as stipulated in the Nuclear Waste Policy Amendments Act.

The panel meetings will be held at the Crowne Plaza Hotel, 4255 South Paradise Road, Las Vegas, NV 89109; (tel.) 702-369-4400; (fax) 702-369-3770. The Panel on the Engineered Barrier System is scheduled to meet from 8:30 a.m. to 5 p.m. on Tuesday, January 20. The Panel on the Waste Management System is scheduled to meet from 8 a.m. to 6 p.m. on Wednesday, January 21. Meeting times will be confirmed when agendas are issued, approximately one week before the meeting dates.

At the Engineered Barrier System Panel meeting on Tuesday, the DOE will begin with a project update, followed by presentations on preclosure safety analysis and surface and subsurface facility design. In the afternoon, the DOE will present information on the design of the waste package, the drip shield, and the invert. Representatives of Nye County, Nevada, will then present an update on county oversight activities related to the engineered system. The final presentation of the day will be an update on the Office of Civilian Radioactive Waste Management's science and technology program.

On Wednesday, the Waste Management System Panel will consider the information the DOE will need as it plans its transportation system. Invited participants include representatives of the DOE and state and local governments; utilities; truck, rail, and barge operators; and those involved in other transportation campaigns, including WIPP and naval spent fuel. During the session related to information flow, participants will be asked to address four questions:

1. What are your Key Yucca Mountain transportation safety and security concerns?

2. How have you been able to address those concerns on the basis of the information and resources that the DOE has provided to date?

3. What concerns have you been unable to address? What does the DOE need to provide to allow this to happen?

4. How long will it take you to address those outstanding concerns once the DOE has provided what you need?

A second session on Wednesday will focus on lessons learned in transporting spent nuclear fuel and other radioactive materials. During that session, participants will be asked to address three questions:

1. What were (or are) the objectives and characteristics of the shipping campaign?

2. From a safety and security perspective, what worked (works) well and what did not (does not)?

3. What experiences and lessons learned may be transferable to the Yucca Mountain transportation program?

Time will set aside at the end of each day for public comments. Those wanting to speak are encouraged to sign the “Public Comment Register” at the check-in table. A time limit may have to be set on individuals remarks, but written comments of any length may be submitted for the record. Interested parties also will have the opportunity to submit questions in writing to the Board. As time permits, questions relevant to the discussion may be asked by Board members.

Detailed agendas will be available approximately on week before the meeting. Copies of the agendas can be requested by telephone or obtained from the Board's Web site at http://www.nwtrb.gov. Transcripts of the meetings will be available on the Board's Web site, by e-mail, on computer disk, and on a library-loan basis in paper format from Davonya Barnes of the Board's staff, beginning on February 24, 2004.

A block of rooms has been reserved at the St. Tropez Hotel for meeting participants. The St. Tropez is located at 455 E. Harmon Avenue, Las Vegas, NV 89109; (tel.) 702-369-5400 and (fax) 702-369-1150. When making a reservation, please state that you are attending the Nuclear Waste Technical Review Board meeting. To receive the meeting rate, reservations should be made by December 31, 2003.

FOR FURTHER INFORMATION CONTACT: The NWTRB: Karyn Severson, External Affairs; 2300 Clarendon Boulevard, Suite 1300; Arlington, VA 22201-3367; (tel.) 703-235-4473; (fax) 703-235-4495; (e-mail) info@nwtrb.gov.

Dated: December 19, 2003.
William D. Barnard,
Executive Director, Nuclear Waste Technical Review Board.

[FR Doc. 03-32046 Filed 12-29-03; 8:45 am]

BILLING CODE 6820-AM-M